DEPARTMENT OF THE INTERIOR

Bureau of Indian Affairs

[212A2100DD/AAKC001030/A0A501010.999900]

Land Acquisitions; Tule River Tribe, Airpark Site, Tulare County, California

AGENCY: Bureau of Indian Affairs, Interior.

ACTION: Notice.

SUMMARY: The Assistant Secretary—Indian Affairs made a final agency determination to acquire in trust 40 acres, more or less, of land known as the Airpark Site in the City of Porterville, Tulare County, California (Site), for the Tule River Indian Tribe of the Tule River Reservation, California (Tribe), for gaming and other purposes.

DATES: This final determination was made on December 7, 2020.

FOR FURTHER INFORMATION CONTACT: Ms. Paula L. Hart, Director, Office of Indian Gaming, Mailstop 3543, 1849 C Street NW, Washington, DC 20240, telephone (202) 219-4066, paula.hart@bia.gov.

SUPPLEMENTARY INFORMATION: On the date listed in the DATES section of this notice, the Assistant Secretary—Indian Affairs made a final agency determination to acquire the Site, consisting of 40 acres, more or less, in trust for the Tribe under the authority of the Indian Reorganization Act of June 18, 1934, 25 U.S.C. 5108.

The Assistant Secretary—Indian Affairs, on behalf of the Secretary of the Interior, will immediately acquire title to Site in the name of the United States of America in trust for Tribe upon fulfillment of all Departmental requirements. The 40 acres, more or less, are described as follows:

The following described real property in the County of Tulare, State of California, more particularly described as:

Parcel No's 1 through 17 inclusive, of Parcel Map No. 4343, in the City of Porterville, County of Tulare, State of California, according to the map thereof recorded in Book 44, Page 47 of Parcel Map, in the office of the County Recorder of said County and by certificates of correction recorded, June 1, 1999 as Instrument No. 99-0041612 and August 12, 1999 as Instrument No. 99-0061851.

Excepting therefrom all oil, gas, minerals and other hydrocarbon substances, in, on, upon or under said land, as reserved by the City of Porterville, a Municipal Corporation, in a Deed recorded October 29, 1990 as file No. 71536 of Official Records.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Tara Sweeney,
Assistant Secretary—Indian Affairs.

[FR Doc. 2020-27223 Filed 12-10-20; 8:45 am]

BILLING CODE 4337-15-P